DEPARTMENT OF DEFENSE

Office of Secretary

[DOD-2007-OS-0130]

Privacy Act of 1974; Systems of Records

AGENCY: Defense Finance and Accounting Service.

ACTION: Notice to Add a System of Records.

SUMMARY: The Defense Finance and Accounting Service (DFAS) is proposing to add a system of records notices to its inventory of record systems subject to the Privacy Act of 1974, (5 U.S.C. 552a), as amended.

DATES: This action will be effective without further notice on January 7, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on November 29, 2007 to the House Committee on Oversight and Government Reform, the Senate Committee on Government Affairs, and the Office of Management and Budget (OMB) pursuant to paragraph 4c of Appendix I to OMB Circular No. A-130, `Federal Agency Responsibilities for Maintaining Records about Individuals,' dated December 12, 2000, 65 FR 239.

Dated: November 30, 2007.
L.M. Bynum,
Alternate OSD Federal Register Liaison Officer, Department of Defense.

T7901

System name:

Standard Finance and Accounting Payment System.

System locations:

Defense Information Systems Agency, Defense Enterprise Computing Center-St Louis, Post Office Box 20012, St. Louis, MO 63120-0012.

Defense Finance and Accounting Service—Indianapolis, 8899 East 56th Street, Indianapolis, IN 46249-2700.

Defense Finance Accounting Service—Columbus, 3990 East Broad Street, Building 21, Columbus OH 43213-2317.

Defense Finance and Accounting Service—Kansas City, 1500 E. Bannister Street, Kansas City, MO 64197-0001.

For a list of other DFAS, U.S. Army, and Marine Corps sites utilizing the system contact the Standard Finance System, Redesigned Subsystem, System Manager, Defense Finance and Accounting Service—Indianapolis, Information Technology Directorate, 8899 East 56th Street, Indianapolis, IN 46249-2700. Telephone number (317) 510-4003.

Categories of individuals covered by the system:

Active duty military members (Army and U.S. Marine Corps), Reserve and Guard military members, Army Military Academy cadets, Army Reserve Officer Training Corps (ROTC) students, DoD contractors, and vendors.

Categories of records in the system:

Individual's name, Social Security Number (SSN), home address, and military branch of service, military status, disbursing and accounting transaction data.

Authority for maintenance of the system:

5 U.S.C. 301, Departmental Regulations; Department of Defense Financial Management Regulation (DoDFMR) 7000.14-R, Volume 5; 31 U.S.C. Sections 3511, 3512, and 3513; and E.O. 9397 (SSN).

Purpose(s):

The system processes payments and collections utilizing the Electronic Funds Transfer system. It is a multi-functional, interactive, automated disbursing and accounting system composed of several functional modules that perform vendor pay, travel pay, and military payroll payment. Defense Finance and Accounting Service, U.S. Army, and Marine Corps will use the system for processing accounting and disbursing transactions in contingency locations requiring foreign currency operations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal Reserve banks to distribute payments made through the direct deposit system to financial organizations or their processing agents authorized by individuals to receive and deposit payments in their accounts.

The `Blanket Routine Uses' published at the beginning of the DoD compilation of systems of records notices apply to this system.

Policies and practices for storing, retrieving, accessing, retaining, and disposing of records in the system:

Storage:

Electronic storage media.

Retrievability:

Name and Social Security Number (SSN).

Safeguards:

Records are stored in an office building protected by guards, controlled screening, use of visitor registers, electronic access, and/or locks. Access to records is limited to individuals who are properly screened and cleared on a need-to-know basis in the performance of their duties. Passwords and digital signatures are used to control access to the system data, and procedures are in place to deter and detect browsing and unauthorized access. Physical and electronic access are limited to persons responsible for servicing and authorized to use the system.

Retention and disposal:

Records may be temporary in nature and deleted when actions are completed, superseded, obsolete, or no longer needed. Other records may be cut off at the end of the payroll year, and destroyed up to 6 years and 3 months after cutoff. Records are destroyed by degaussing, shredding, or burning.

System manager(s) and address:

System Manager, Defense Finance and Accounting Service—Indianapolis, Information Technology Directorate, 8899 East 56th Street, Indianapolis, IN 46249-2700. Telephone number (317) 510-4003.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's name, Social Security Number (SSN), current address, and telephone number.

Record access procedures:

Individuals seeking access to information about themselves contained in this system of records should address written inquiries to Defense Finance and Accounting Service, Freedom of Information/Privacy Act Program Manager, Corporate Communications and Legislative Liaison, 6760 E. Irvington Place, Denver, CO 80279-8000.

Requests should contain individual's name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

Individual or DoD military components.

Exemptions claimed for the system:

None.

[FR Doc. E7-23666 Filed 12-5-07; 8:45 am]

BILLING CODE 5001-06-P